DEPARTMENT OF AGRICULTURE

Forest Service

Tuolumne County Resource Advisory Committee

AGENCY: Forest Service, USDA.

ACTION: Notice of meeting.

SUMMARY: The Tuolumne County Resource Advisory Committee will meet on August 12, 2002, at the City of Sonora Fire Department, in Sonora, California. The purpose of the meeting is to receive and review final project proposal submissions for 2002 funds.

DATES: The meeting will be held August 12, 2002, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370, (209) 532-3671; E-mail pkaunert@fs.fed.us.

SUPPLEMENTARY INFORMATION: Agenda items to be covered include: (1) Continue project proposal review focusing on final clarification; (2) Determine agreement on top projects (3) Public comments; (4) Take final vote on projects to recommend for funding; (5) Discuss purpose of upcoming August 19, 2002 meeting. This meeting is open to the public.

Dated: July 22, 2002.
Glenn Gottschall,
Acting Forest Supervisor.

[FR Doc. 02-19788 Filed 8-5-02; 8:45 am]

BILLING CODE 3410-ED-M